DEPARTMENT OF THE INTERIOR

National Park Service

Cuyahoga Valley National Park, OH; Intent To Prepare Draft Environmental Impact Statement for Rural Landscape Management

AGENCY: National Park Service, Department of the Interior.

ACTION: Notice of intent to prepare a draft environmental impact statement for rural landscape management in Cuyahoga Valley National Park, Ohio.

SUMMARY: The National Park Service (NPS) will prepare a draft environmental impact statement (EIS) to address the long-term management of the rural landscape in Cuyahoga Valley National Park. Park managers have understood the park's mandate to include the preservation of the rural landscape—the Valley's agricultural lands and associated structures. Various attempts to stem the decline of this landscape within the park's boundaries have not prevented farms from falling into disuse and disrepair. The park is proposing to implement a fresh approach to rural landscape management to better protect and revitalize this cultural resource.

SUPPLEMENTARY INFORMATION:

Background

A preliminary set of alternatives (including the park's preferred alternative) for protecting the rural landscape have been developed:

(1) No action. Manage the rural landscape through a combination of historical leasing, short-term special use permits, mowing, and utilization of structures for adaptive reuse. Continue current program activities without changing their emphasis.

(2) Contract farming. Manage the rural landscape by hiring employees or contractors to implement a network of working farms as modeled by the NPS.

(3) Historical farming. Manage the rural landscape through the establishment of demonstration farms that replicate farming practices of specific historical eras.

(4) Countryside Initiative (Preferred Alternative). Manage the rural landscape by developing sustainable farms through long-term leases with private individuals. More information on this alternative can be found online at: http://www.nps.gov/cuva/technical/countryside/index.htm.

(5) Vista protection. Manage the rural landscape primarily for scenic values by emphasizing the restoration of farm structures for residential, office, or other non-agricultural use and clear and mow fields absent any agricultural purpose.

The park proposed completing an Environmental Assessment (EA) in May 2001 to assess the issues and alternatives for the proposed action. Public scoping was initiated for the EA and included letters to numerous agencies and organizations and a press release to local media. Park managers now believe that an EIS is more appropriate given the scope and complexity of the proposed action. All information generated during the EA scoping process will be retained for use in the EIS process. Anyone who contributed comments for the EA need not resend their comments.

Comments

To facilitate sound analysis of environmental impacts, the NPS is gathering information necessary for the preparation of the EIS. Suggestions on environmental issues to be analyzed and additional alternatives to consider are being sought from other agencies, tribes, organizations, and the public. Comments and participation in this scoping process are invited and encouraged. This notice is being furnished as required by National Environmental Policy Act regulations 40 CFR 1501.7.

Scoping comments will be accepted for a period of forty-five (45) days from the issuance of this notice. A public scoping open house session will be scheduled no sooner than fifteen (15) days from the issuance of this notice. This open house will provide an opportunity for governments, tribes, agencies, communities, and interested citizens to learn more about the proposed action and express the issues and concerns they believe the EIS should address. Notice of the date, time, and location of this public scoping session will be advertised in local media outlets prior to the event. Persons wishing to receive direct mail notification of the public scoping sessions should contact the park at the address or telephone number below. Interested agencies and organizations are also invited to arrange meetings to provide input directly to the park. Such meetings can be arranged by contacting the EIS Team Leader at the address and telephone below. The public meeting notice, draft documents, and general information regarding the EIS will be found on the park's web site at http://www.nps.gov/cuva/ruraleis.htm. Written comments may also be mailed or e-mailed to the park's Superintendent at the address below.

Decision Process

The environmental review of the EIS for rural landscape management at Cuyahoga Valley National Park will be conducted in accordance with requirements of the NEPA (42 U.S.C. 4371 et seq.), NEPA regulations (40 CFR parts 1500-1508), other appropriate Federal regulations, and NPS procedures and policies for compliance with those regulations.

Addresses

Written comments, general park information requests, or requests to be added to the project mailing list should be directed to: Superintendent, Cuyahoga Valley National Park, 15610 Vaughn Road, Brecksville, Ohio 44141. Telephone: 440-546-5903. E-mail: cuva_superintendent@nps.gov.

For Further Information Contact

For information concerning the scope of the EIS and to arrange Agency meetings should be directed to Kevin Skerl, EIS Team Leader, Cuyahoga Valley National Park at the address above. Telephone: 330-650-5071 extension 4. E-mail: kevin_skerl@nps.gov.

Dated: June 19, 2001.
William W. Schenk,
Regional Director, Midwest Region.

[FR Doc. 01-18761 Filed 7-26-01; 8:45 am]

BILLING CODE 4310-70-P